ENVIRONMENTAL PROTECTION AGENCY

40 CFR Part 52

[EPA-R10-OAR-2017-0482; FRL-9975-22-Region 10]

Air Plan Approval; Oregon; Regional Haze Progress Report

AGENCY: Environmental Protection Agency (EPA).

ACTION: Proposed rule.

SUMMARY: The Environmental Protection Agency (EPA) is proposing to approve a revision to the Oregon Regional Haze State Implementation Plan (SIP), submitted by the State of Oregon on July 18, 2017. Oregon submitted its Regional Haze Progress Report (“progress report” or “report”) and a negative declaration stating that further revision of the existing regional haze SIP is not needed at this time. Oregon submitted both the progress report and the negative declaration in the form of implementation plan revisions as required by federal regulations. The progress report addresses the federal Regional Haze Rule (RHR) requirements under the Clean Air Act (CAA) to submit a report describing progress in achieving reasonable progress goals (RPGs) established for regional haze and a determination of the adequacy of the state's existing plan addressing regional haze.

DATES: Comments must be received on or before April 18, 2018.

ADDRESSES: Submit your comments, identified by Docket ID No. EPA-R10-OAR-2017-0482 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Jeff Hunt, Air Planning Unit, Office of Air and Waste (OAW-150), Environmental Protection Agency—Region 10, 1200 Sixth Ave, Seattle, WA 98101; telephone number: (206) 553-0256, email address: hunt.jeff@epa.gov.

SUPPLEMENTARY INFORMATION: Throughout this document whenever “we,” “us,” or “our” is used, it is intended to refer to the EPA.

I. Background

Oregon submitted its initial regional haze SIP to the EPA on December 20, 2010, and submitted supplemental information on February 1, 2011. The EPA approved portions of the Oregon regional haze SIP as meeting certain requirements of the regional haze program, including the requirements for best available retrofit technology, on July 5, 2011, and the remaining portions of the regional haze SIP on August 22, 2012.¹ Five years after submittal of the initial regional haze plan, states are required to submit progress reports that evaluate progress towards the RPGs for each mandatory Class I Federal area ² (Class I area) within the state and in each Class I area outside the state which may be affected by emissions from within the state. 40 CFR 51.308(g). States are also required to submit, at the same time as the progress report, a determination of the adequacy of the state's existing regional haze plan. 40 CFR 51.308(h). On July 18, 2017, the Oregon Department of Environmental Quality (ODEQ) submitted as a SIP revision a report on the progress made in the first implementation period towards the RPGs for Class I areas. The EPA is proposing to approve Oregon's progress report on the basis that it satisfies the requirements of 40 CFR 51.308. We also propose to find that Oregon's progress report demonstrates that the state's long-term strategy and emission control measures in the existing regional haze SIP are sufficient to enable Oregon to meet all established RPGs for 2018.

¹ See 76 FR 38997 and 77 FR 50611.

² Areas designated as mandatory Class I Federal areas consist of national parks exceeding 6000 acres, wilderness areas and national memorial parks exceeding 5000 acres, and all international parks that were in existence on August 7, 1977 (42 U.S.C. 7472(a)). Listed at 40 CFR part 81, subpart D.

II. Context for Understanding Oregon's Progress Report

To facilitate a better understanding of Oregon's progress report as well as the EPA's evaluation of it, this section provides background on the regional haze program in Oregon.

A. Framework for Measuring Progress

The EPA has established a metric for determining visibility conditions at Class I areas referred to as the “deciview index,” which is measured in deciviews, as defined in 40 CFR 51.301. The deciview index is calculated using monitoring data collected from the Interagency Monitoring of Protected Visual Environments (IMPROVE) network monitors. Oregon has twelve Class I areas within its borders: Mt. Hood Wilderness, Mt. Jefferson Wilderness, Mt. Washington Wilderness, Three Sisters Wilderness, Diamond Peak Wilderness, Crater Lake National Park, Mountain Lakes Wilderness, Gearhart Mountain Wilderness, Kalmiopsis Wilderness, Strawberry Mountain Wilderness, Eagle Cap Wilderness, and Hells Canyon Wilderness. Monitoring data representing visibility conditions in Oregon's 12 Class I areas was based on the six IMPROVE monitors identified in Table 1. As shown in the table, the CRLA1 monitoring site represents four Class I areas, the THSI1 site represents three areas, and the SRAR1 site represents two areas.

Table 1—Oregon IMPROVE Monitoring Sites and Represented Class I Areas
Site code | Class I area
MOHO1 | Mt. Hood Wilderness.
THSI1 | Mt. Jefferson Wilderness.
| Mt. Washington Wilderness.
| Three Sisters Wilderness.
CRLA1 | Crater Lake National Park.
| Diamond Peak Wilderness.
| Mountain Lakes Wilderness.
| Gearhart Mountain Wilderness.
KALM1 | Kalmiopsis Wilderness.
STAR1 | Strawberry Mountain Wilderness.
| Eagle Cap Wilderness.
HECA1 | Hells Canyon Wilderness Area.

In developing its initial regional haze SIP as part of the Western Regional Air Partnership (WRAP), Oregon determined, and the EPA in its approval agreed, that no major contributions were identified that necessitated developing new interstate strategies, mitigation measures, or emission reduction obligations with respect to visibility in other western states.³ Therefore, Oregon's progress report does not address visibility impacts from sources in other states or the visibility impact of Oregon sources on Class I areas in other states.

³ 76 FR 12651, 12663-64; 76 FR 38997.

Under the RHR, a state's initial regional haze SIP must establish two RPGs for each of its Class I areas: one for the 20 percent least impaired days and one for the 20 percent most impaired days. The RPGs must provide for an improvement in visibility on the 20 percent most impaired days and ensure no degradation in visibility on the 20 percent least impaired days, as compared to visibility conditions during the baseline period. In establishing the RPGs, a state must consider the uniform rate of visibility improvement from the baseline to natural conditions in 2064 and the emission reductions measures needed to achieve it. Oregon set the RPGs for its twelve Class I areas based on regional atmospheric air quality modeling conducted by the WRAP using projected emission reductions in western states from federal and state control strategies expected to be in place before 2018.

B. Data Sources for Oregon's Progress Report

Oregon relied on the WRAP technical data and analyses in a report titled “Western Regional Air Partnership Regional Haze Rule Reasonable Progress Summary Report” (WRAP Report), dated June 28, 2013. The WRAP report was prepared for the 15 western state members to provide the technical basis for the first of their individual progress reports. Data are presented in this report on a regional, state, and Class I area specific basis that characterize the difference between baseline conditions (2000-2004) and the first 5-year progress period (2005-2009). In developing the progress report, Oregon also evaluated visibility conditions in its twelve Class I areas based on the most recent 5-year data available at the time Oregon developed the progress report (2010-2014).

III. The EPA's Evaluation of Oregon's Progress Report

This section describes the contents of Oregon's progress report and the EPA's evaluation of the report, as well as the EPA's evaluation of the determination of adequacy required by 40 CFR 51.308(h) and the requirement for state and Federal Land Manager coordination in 40 CFR 51.308(i).

A. Status of Implementation of All Measures Included in the Regional Haze SIP

In its progress report, Oregon provided a description of the two key control measures that the state relied on to implement the regional haze program: best available retrofit technology (BART), including enforceable emission limits on BART-eligible sources, and its smoke management program for forestry burning.⁴ Oregon included a description of these programs which are summarized below.

⁴ The progress report also included a summary of stationary, mobile, and area source control measures that provide supplemental emissions reductions as part of the long-term strategy discussion in Chapter 2.3.

1. BART-Level Controls

Oregon's regional haze SIP identified four BART eligible facilities: The Portland General Electric (PGE) Boardman electric power plant, the PGE Beaver electric power plant, the Georgia-Pacific Wauna Mill, and the International Paper Company mill in Springfield. Of these four facilities, only PGE Boardman was found to be subject to BART. Accordingly, PGE Boardman installed low nitrogen oxide (NOX) burners with a modified over-fire air system in 2011 and is meeting BART NOX emission limitations. In early 2014, BART sulfur dioxide (SO2) controls, consisting of a semi-dry flue gas desulfurization system, were installed at PGE Boardman. This facility now complies with the initial BART SO2 emission limit. A further reduction in the SO2 emission limit is required at PGE Boardman by 2018. Finally, the BART requirements for the PGE Boardman plant include permanently ceasing burning coal in the main boiler by December 31, 2020.

In addition to the BART-level controls on the PGE Boardman power plant, three BART-eligible sources took federally enforceable emission limits to avoid being subject to BART. Specifically, the PGE Beaver electric power plant has six combined cycle turbines that are the BART-eligible emission units. PGE requested daily fuel oil limits for these turbines, as well as a requirement that all future oil contain no more than 0.0015% sulfur. An equation was developed to determine a daily fuel oil quantity limit that was tied to the sulfur content of the fuel, so as not to exceed the visibility threshold level of 0.5 deciview.⁵ This plant has a Title V operating permit, which was modified on January 21, 2009, to incorporate federally enforceable permit limits (FEPLs), which included the above daily fuel oil limits and sulfur content in fuel oil burned at the plant.

⁵ Under the approved Oregon regional haze SIP, any source with an impact of greater than 0.5 deciview in any Class I area, including Class I areas in other states, would be subject to additional BART analysis and BART emission limitations.

Georgia-Pacific proposed a FEPL for its Wauna Mill which provided for reduced emissions of visibility impairing pollutants in two steps. The non-condensible gas (NCG) incinerator, which was the largest source of SO2 emissions at the mill, was eliminated, and restrictions on the use of fuel oil were established through FEPLs:

• The use of fuel oil in the power boiler was permanently discontinued.

• Use of fuel oil in the lime kiln was discontinued until the NCG incinerator was eliminated, after which fuel oil was again used.

• The maximum pulp production rate was limited to 1,030 tons per day until completion of this project, after which the maximum pulp production limit would increase to 1,350 tons per day.

This plant has a Title V operating permit, number 04-0004, which was modified on June 18, 2009, to incorporate the FEPL requirements. This permit was again revised on December 2, 2010, to reflect elimination of the NCG incinerator.

The International Paper Company mill in Springfield manufactures linerboard, primarily from wood chips and recycled old corrugated containers. This plant has seven different BART-eligible emission units. In order to minimize the likelihood of exceeding the 0.5 deciview visibility threshold, FEPLs were established including a restriction on fuel oil could be burned at the facility. The plant's Title V operating permit was modified on April 7, 2009, to incorporate the FEPL requirements. Compliance with the condition to limit visibility impacts is demonstrated through the use of a formula, emission factors, and continuous emissions monitoring data.

Oregon's 2010 regional haze SIP identified a fifth facility, the Amalgamated Sugar Company's sugar beet processing facility located in Nyssa. This facility has potential impacts greater than 0.5 deciview for the Eagle Cap Wilderness Area based on CALPUFF modeling of 2003-2005 emissions. As noted in the progress report, “The plant is currently shutdown, and has not identified a date to resume operations. DEQ's BART rules in 340-223-0040(3) specify that this facility must either modify its permit by adopting an FEPL or be subject to BART, before resuming operation. At this time, this facility is still shutdown, and the permit has not been modified.”

2. Smoke Management

Throughout the first regional haze planning period, Oregon implemented its Smoke Management Plan (smoke management plan). The primary purpose of the smoke management plan is to keep smoke from forestland prescribed burning from being carried into smoke sensitive receptor areas, generally population centers, and to provide opportunity for essential forestland burning while minimizing emissions. Smoke from agricultural and forestry burning are major contributors to Class I area visibility impairment and regional haze in Oregon and the western United States. The pollutant species contribution identified in the Oregon regional haze SIP showed that a significant portion of the 20% most impaired days in all of Oregon's Class I areas is from organic and elemental carbon, due to fire emissions. Much of this contribution is from wildfire, which fluctuates significantly from year to year. However, there is also a sizable contribution from controlled burning, which is dominated by agricultural and forestry burning.

Under Oregon Revised Statutes (ORS) 477.013, the State Forester and ODEQ are required to protect air quality through a smoke management plan, which was included in the SIP. Oregon Department of Forestry (ODF) smoke management rules are listed in Oregon Administrative Rules (OAR) 629-048-0001 to 629-048-0500, 629-043-0043, and 629-043-0041.

On November 2, 2007, ODF adopted revisions to the smoke management plan to incorporate numerous changes to provide protection of air quality and visibility in Class I areas. New visibility protection provisions were adopted in OAR 629-048-0130 that incorporated references to the regional haze SIP, including the Enhanced Smoke Management Program (ESMP) criteria in section 309 of the Regional Haze Rule. Oregon continues to evaluate the impact of prescribed fire on Class I areas and make necessary improvements. As a result, Oregon revised the smoke management plan again in 2014 to incorporate practices to minimize impacts to the Kalmiopsis Wilderness and Crater Lake National Park. The 2014 revisions to the smoke management plan were submitted as a revision to the SIP and will be addressed in a separate action.

B. Summary of Visibility Conditions

In addition to the evaluation of control measures, Oregon documented in the progress report the differences between the visibility conditions during the baseline period (2000-2004), the first progress period (2005-2009), and the most current five year averaging period (2010-2014) based on data that were available at the time Oregon developed the progress report.

Table 2—Oregon Class I Area Visibility Conditions on the 20% Most and Least Impaired Day
Monitor/region | Oregon class I area | 20% Most impaired days: 2000-04 Baseline | 20% Most impaired days: 2005-09 First progress period | 20% Most impaired days: 2010-14 Current period | 20% Most impaired days: 2018 RPGs | 20% Least impaired days: 2000-04 Baseline | 20% Least impaired days: 2005-09 First progress period | 20% Least impaired days: 2010-14 Current period | 20% Least impaired days: 2018 RPGs
|  | (dv) | (dv) | (dv) | (dv) | (dv) | (dv) | (dv) | (dv)
MOHO1 Northern Cascades | Mt. Hood Wilderness Area | 14.9 | 13.7 | 13.2 | 13.8 | 2.2 | 1.7 | 1.3 | 2.0
THES1 Central Cascades | Mt. Jefferson, Mt. Washington, and Three Sisters Wilderness Areas | 15.3 | 16.2 | 14.9 | 14.3 | 3.0 | 3.0 | 2.5 | 2.9
CRLA1 Southern Cascades | Crater Lake National Park; Diamond Peak, Mountain Lakes, and Gearhart Mountain Wilderness Areas | 13.7 | 13.8 | 11.7 | 13.4 | 1.7 | 1.6 | 1.2 | 1.5
KALM1 Coast Range | Kalmiopsis Wilderness Area | 15.5 | 16.4 | 14.6 | 15.1 | 6.3 | 6.4 | 6.1 | 6.1
STAR1 Eastern Oregon | Strawberry Mountain and Eagle Cap Wilderness Areas | 18.6 | 16.2 | 12.5 | 17.5 | 4.5 | 3.6 | 2.8 | 4.1
HECA1 Eastern Oregon/Western Idaho | Hells Canyon Wilderness Area | 18.6 | 18.2 | 16.3 | 16.6 | 5.5 | 4.8 | 4.1 | 4.7

Based on the information in Chapter 3.2 of the progress report, Oregon demonstrated that all Class I areas experienced improvements in visibility for the 20% most and least impaired days between the baseline (2000-2004) and current (2010-2014) visibility periods, as shown in Tables 16 and 17 of the progress report, and summarized in Table 2 above. Oregon's progress report included an analysis of progress and impediments to progress. Oregon noted that there have been significant improvements in visibility conditions on both the 20% most and least impaired days, meeting the 2018 RPGs for all Oregon Class I areas except at the THSI1 monitor, which tracks visibility conditions for the Mt. Jefferson, Mt. Washington and Three Sisters wilderness areas in the Oregon Central Cascades.

In the Oregon Central Cascades, progress towards the RPGs has been slower than anticipated, and Oregon attributed this slower progress to visibility impairment due to smoke from episodic wildfires in the area. The visibility conditions on the 20% most impaired days in the Central Cascades had improved by 0.4 deciviews between the baseline and current progress periods, but had not yet met the 2018 RPG. Tables 17, 18 and 21 and Figure 20 of the report show that, even though there had been a steady reduction in ammonium sulfate formation since 2000, indicative of a reduction in anthropogenic contributions to visibility impairment at this site, particulate organic aerosols has consistently remained the dominant contributor to light extinction, with notable spikes in the summers of 2011 and 2012. Oregon attributed this increase in organic aerosols to wildfire smoke. The 2011 and 2012 fires potentially impacting the THSI1 monitor included the Mother Lode (2,661 acres), Shadow Lake (10,000 acres), High Cascades (108,154 acres), and Pole Creek (26,000 acres) fires, as illustrated in Figure 21 of the report.

Oregon's progress report concluded that the state is making adequate progress in improving visibility as a result of actions identified in the regional haze SIP. The average trends for least impaired days show improvement at every monitoring location, with all areas currently meeting the 2018 RPGs for the 20% least impaired days. Similarly, average trends for most impaired days show improvement at every monitoring location, with all areas except the Central Cascades, as described above, meeting the 2018 RPGs. The progress report also contained a review of Oregon's visibility monitoring strategy, concluding that the IMPROVE network continues to comply with the monitoring requirements in the Regional Haze Rule and that no modifications to Oregon's visibility monitoring strategy are necessary at this time.

C. Summary of Emissions Reductions

The Oregon progress report also includes a summary of the emissions reductions achieved throughout the state through implementation of the control measures relied upon to achieve reasonable progress. Specifically, Oregon identified in the progress report emissions reductions achieved through controls on Oregon BART-eligible sources. The Oregon progress report included the emissions reductions achieved at the PGE Boardman Plant, the PGE Beaver Plant, the Georgia Pacific Wauna Mill, and International Paper Mill. According to the Oregon progress report, implementation of control measures caused significant reductions in SO2 emissions at all four facilities, as well as reductions in NOX and coarse particulate matter (PM10) emissions at all facilities except the Georgia Pacific Wauna Mill. The progress report also detailed emissions reductions achieved as part of the smoke management program. In particular, the progress report highlights alternatives to burning such as biomass removal, chipping, and other techniques to reduce fire hazard, offsetting up to 13,500 tons of fine particulate emissions estimated in 2015 compared to burning.

In addition, the progress report summarized changes in emission inventories for all major visibility impairing pollutants from point, area, on-road mobile, off-road mobile, oil and gas, fugitive and road dust, and anthropogenic fire source categories in the state. For these summaries, emissions during the baseline years are represented using a 2002 inventory, which was developed with support from the WRAP for use in the original regional haze SIP development. Differences between inventories are represented as the difference between the 2002 inventory, and a 2008 inventory which leverages recent inventory development work performed by the WRAP for the West-wide Jump Start Air Quality Modeling Study (WestJumpAQMS) and Deterministic & Empirical Assessment of Smoke's Contribution to Ozone Project (DEASCO3) modeling projects.

Oregon's progress report noted that the emissions inventories were complicated by the changes and enhancements that have occurred between development of the baseline and current period emissions inventories. Oregon stated that many of the differences between inventories are more reflective of changes in inventory methodology, rather that changes in actual emissions. An example is the reclassification of some off-road mobile sources (such as some types of marine vessels and locomotives) into the area source category in 2008, which may have contributed to increases in area source inventory totals, but decreases in off-road mobile totals.

Notwithstanding these differences between the 2002 and 2008 emissions inventory methodologies, estimated emissions reductions for SO2 and NOX are summarized in Tables 3 and 4. We note that the other visibility impairing pollutants (primary organic aerosols, elemental carbon, fine soil, and coarse matter) also generally declined as detailed in Chapter 3.4 of the progress report.⁶

⁶ Fine soil and coarse mass decreased for the windblown dust inventory comparisons and increased for the combined fugitive/road dust inventories. Oregon noted that large variability in changes in windblown dust was observed for the contiguous WRAP states, which was likely due in large part to enhancements in dust inventory methodology, rather than changes in actual emissions. For most parameters, especially primary organic aerosols, volatile organic compounds, and elemental carbon, natural fire emission inventory estimates decreased, and anthropogenic fire estimates increased. Oregon noted that these differences are not necessarily reflective of changes in monitored data, as the baseline period is represented by an average of 2000-2004 fire emissions, and the progress period is represented only by the fires that occurred in 2008, as referenced in section 3.3.1 of the progress report.

Table 3—Sulfur Dioxide Emissions by Category
| Sulfur dioxide emissions (tons/year): 2002 | Sulfur dioxide emissions (tons/year): 2008 | Sulfur dioxide emissions (tons/year): Difference (percent change)
Anthropogenic Sources
Point | 18,493 | 15,918 | -2,575
Area | 9,932 | 1,528 | -8,404
On-Road Mobile | 3,446 | 654 | -2,792
Off-Road Mobile | 6,535 | 431 | -6,104
Area Oil and Gas | 0 | 0 | 0
Fugitive and Road Dust | 0 | 0 | 0
Anthropogenic Fire | 1,586 | 1,403 | -182
Total Anthropogenic | 39,992 | 19,934 | -20,058 (-50%)
Natural Sources
Natural Fire | 7,328 | 1,207 | -6,121
Biogenic | 0 | 0 | 0
Wind Blown Dust | 0 | 0 | 0
Total Natural | 7,328 | 1,207 | -6,121 (-84%)
All Sources
Total Emissions | 47,320 | 21,140 | -26,180 (-55%)

Table 4—Oxides of Nitrogen Emissions by Category
| Oxides of nitrogen emissions (tons/year): 2002 | Oxides of nitrogen emissions (tons/year): 2008 | Oxides of nitrogen emissions (tons/year): Difference (percent change)
Anthropogenic Sources
Point | 26,160 | 23,548 | −2,612
Area | 14,740 | 24,121 | 9,381
On-Road Mobile | 111,646 | 98,399 | −13,247
Off-Road Mobile | 53,896 | 23,463 | −30,434
Area Oil and Gas | 85 | 0 | −85
Fugitive and Road Dust | 0 | 0 | 0
Anthropogenic Fire | 6,292 | 9,923 | 3,630
Total Anthropogenic | 212,819 | 179,453 | −33,366 (−16%)
Natural Sources
Natural Fire | 27,397 | 8,521 | −18,876
Biogenic | 16,527 | 5,560 | −10,967
Wind Blown Dust | 0 | 0 | 0
Total Natural | 43,924 | 14,081 | −29,843 (−68%)
All Sources
Total Emissions | 256,744 | 193,534 | −63,209 (-25%)

In its progress report, Oregon concluded that the state is making adequate progress in improving visibility as a result of actions identified in the regional haze SIP, as well as actions taken by adjoining states, the federal government, and compliance with international treaty, as described in more detail in the “Long Term Strategy Update” chapter of the progress report.

D. Determination of Adequacy (40 CFR 51.308(h))

In accordance with 40 CFR 51.308(h)(1), if the state determines, at the time the five-year progress report is submitted, that the existing implementation plan requires no further substantive revision at this time in order to achieve established goals for visibility improvement and emissions reductions, the state must provide to the Administrator a negative declaration that further revision of the existing implementation plan is not needed at this time. Within the progress report, the State of Oregon provided a negative declaration stating that further revision of the existing implementation plan is not needed. The basis for the state's negative declaration is the finding that visibility on the 20% most and least impaired days has improved, and 2018 RPGs attained at all Oregon IMPROVE monitors, except for the 20% most impaired days at the Central Cascades monitor, which Oregon demonstrated was due to smoke from wildfires in 2011 and 2012. Accordingly, the EPA proposes to find that Oregon adequately addressed the requirements in 40 CFR 51.308(h) in its determination that the existing Oregon regional haze SIP requires no substantive revisions at this time to achieve the established RPGs for Class I areas.

E. Consultation With Federal Land Managers (40 CFR 51.308(i))

In accordance with 40 CFR 51.308(i), the state must provide the FLMs with an opportunity for consultation, in person and at least 60 days prior to holding any public hearings on an implementation plan (or plan revision). The state must also include a description of how it addressed any comments provided by the FLMs. The State of Oregon invited the FLMs to comment on its draft progress report on February 3, 2016, for a 60-day comment period ending April 4, 2016, prior to releasing the report for public comment. The FLM comments and Oregon's responses are presented in Appendix D of the progress report.

The EPA proposes to find that Oregon has addressed the requirements in 40 CFR 51.308(i). Oregon provided a 60-day period for the FLMs to comment on the progress report, which was at least 60 days before seeking public comments, and provided a summary of these comments and responses to these comments in the progress report.

IV. The EPA's Proposed Action

The EPA is proposing to approve the Oregon Regional Haze Progress Report submitted to the EPA on July 18, 2017, as meeting the applicable requirements of the CAA and RHR, as set forth in 40 CFR 51.308(g). The EPA proposes to find that the existing regional haze SIP is adequate to meet the state's visibility goals and requires no substantive revision at this time, as set forth in 40 CFR 51.308(h). We propose to find that Oregon fulfilled the requirements in 40 CFR 51.308(i) regarding state coordination with FLMs.

V. Statutory and Executive Order Reviews

Under the CAA, the Administrator is required to approve a SIP submission that complies with the provisions of the CAA and applicable Federal regulations.⁷ Thus, in reviewing SIP submissions, the EPA's role is to approve state choices, provided that they meet the criteria of the CAA. Accordingly, this proposed action merely approves state law as meeting Federal requirements, and does not impose additional requirements beyond those imposed by state law. For that reason, this proposed action:

⁷ 42 U.S.C. 7410(k); 40 CFR 52.02(a).

• Is not a “significant regulatory action” subject to review by the Office of Management and Budget under Executive Orders 12866 (58 FR 51735, October 4, 1993) and 13563 (76 FR 3821, January 21, 2011);

• is not an Executive Order 13771 (82 FR 9339, February 2, 2017) regulatory action because actions such as SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this rulemaking does not involve technical standards; and

• does not provide the EPA with the discretionary authority to address, as appropriate, disproportionate human health or environmental effects, using practicable and legally permissible methods, under Executive Order 12898 (59 FR 7629, February 16, 1994).

In addition, this proposed action does not apply on any Indian reservation land or in any other area where the EPA or an Indian tribe has demonstrated that a tribe has jurisdiction. In those areas of Indian country, the rule does not have tribal implications as specified by Executive Order 13175 (65 FR 67249, November 9, 2000).

List of Subjects in 40 CFR Part 52

Environmental protection, Air pollution control, Incorporation by reference, Intergovernmental relations, Nitrogen dioxide, Particulate matter, Reporting and recordkeeping requirements, Sulfur oxides, Visibility, Volatile organic compounds.

Authority: 42 U.S.C. 7401 et seq.

Dated: February 26, 2018.
Chris Hladick,
Regional Administrator, Region 10.

[FR Doc. 2018-04931 Filed 3-16-18; 8:45 am]

BILLING CODE 6560-50-P